DEPARTMENT OF ENERGY

Federal Energy Regulatory Commission

[Project No. 516-319, 321, 326, 329, 330, 331, 332, 333, 354, 355, 356, 357, 358, and 359]

South Carolina Electric & Gas Company; Notice of Availability of Final Environmental Assessment

October 30, 2003.

In accordance with the National Environmental Policy Act of 1969 and the Federal Energy Regulatory Commission's (Commission) regulations, 18 CFR part 380 (Order No. 486, 52 FR 47897), the Office of Energy Projects staff has reviewed the applications for the sale of 14 parcels of project land adjacent to Lake Murray, the Saluda Hydroelectric Project impoundment, for future private development and has prepared a Final Environmental Assessment (FEA) for the land sales. The parcels of land are located in Lexington, Saluda, and Newberry counties, South Carolina.

The FEA contains the staff's analysis of the potential environmental effects of the proposed sale of certain tracts of land and concludes that SCE&G's proposal to sell the 14 parcels of project land for future private development, with staff recommended measures, would not constitute a major Federal action significantly affecting the quality of the human environment.

A copy of the FEA is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659. For further information, contact Jack Hannula by E-mail at John.Hannula@ferc.gov or by phone (202) 502-89.

Magalie R. Salas,
Secretary.

[FR Doc. E3-00173 Filed 11-4-03; 8:45 am]

BILLING CODE 6717-01-P